DEPARTMENT OF HEALTH AND HUMAN SERVICES

Health Resources and Services Administration

Agency Information Collection Activities: Submission to OMB for Review and Approval; Public Comment Request; Voluntary Partner Surveys To Implement Executive Order 14058 in the Health Resources and Services Administration, OMB No. 0915-0212—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than February 5, 2024.

ADDRESSES: Written comments and recommendations for the proposed information collection should be sent within 30 days of publication of this notice to www.reginfo.gov/public/do/PRAMain. Find this particular information collection by selecting “Currently under Review—Open for Public Comments,” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Voluntary Partner Surveys to Implement Executive Order 14058 in the Health Resources and Services Administration, OMB No. 0915-0212—Revision.

Abstract: The purpose of information collections under this generic umbrella ICR package is to conduct a limited number of partner surveys. If this generic ICR is approved, information on each individual partner survey conducted under this generic ICR will not be published separately in the Federal Register. Approval of this specific umbrella ICR would allow HRSA to continue to conduct voluntary customer surveys of its partners to assess strengths and weaknesses in program services and processes. A previous version of this ICR was done in response to Executive Order 12862, which called on the Federal Government to gather feedback from customers, set customer service standards, and measure performance against those standards. In December 2021, the White House issued Executive Order 14058, calling on the Federal Government to improve its service delivery to its customers and put people at the center of Federal Government activity. In accordance with this directive, HRSA is requesting approval of this generic umbrella ICR from OMB to conduct the partner surveys with a slight increase in the allotted burden hours so that HRSA can assess its performance from a larger swath of its partner population to help ensure that HRSA's customer service delivery continues to improve, in accordance with the directive in Executive Order 14058.

HRSA customer service feedback will continue to be gathered in the form of focus groups, in-class evaluation forms, mail surveys, and telephone surveys. Although HRSA cannot anticipate all of the collections that will fall under this generic umbrella ICR, HRSA anticipates receiving OMB approval to include the following collections:

• Surveys of HRSA grantees to determine satisfaction with grant processes or technical assistance provided by a HRSA contractor. Surveys may also be done to determine partner satisfaction with HRSA products or services. Surveys may be conducted by mail, telephone, or online. These surveys include the Division of Practitioner Data Bank Usability Survey generic fast track ICR, which helps identify strengths and weaknesses of the National Practitioner Data Bank customer service call center agents, and the HRSA Electronic Handbooks Customer Service Survey generic fast track ICR, which gathers public feedback about HRSA's electronic handbooks.

• Evaluation forms completed by providers who receive training from HRSA funding recipients, to measure satisfaction with the training experience. Evaluation forms may also be done after a conference or other training session with HRSA partners. Evaluation forms may be done hard-copy or online. One evaluation form generic fast track ICR that is expected to be included in this generic umbrella ICR is the National Ryan White Conference survey forms evaluating the National Ryan White Conference on HIV Care and Treatment and the Federal Cervical Cancer Collaborative Post-Roundtable Evaluation helping HRSA to gain better understanding of participants' experiences.

• Focus groups of HRSA grantees to learn more about their needs and concerns (e.g., professional development, technical assistance, and current or expected issues with program operations). Focus groups may also be conducted to learn more about how the people served by HRSA programs react to messaging related to HRSA program activities. Focus groups may be conducted online or in person. The HRSA focus group generic fast track ICR that is expected to be included in this generic umbrella ICR includes the HRSA Division of Transplantation Formative Evaluation Minority Organ Donation Outreach consisting of a group of online focus groups designed to gather feedback on several campaign concepts.

A 60-day notice published in the Federal Register on October 20, 2023, 88 FR 72494-95.

Need and Proposed Use of the Information: Results of these surveys will be used to plan and redirect resources and efforts as needed to improve services and processes. Focus groups may also be used to gain partner input into the design of mail and telephone surveys.

Likely Respondents: HRSA partners are typically state or local governments, tribes and tribal organizations, health care facilities, health care consortia, health care providers, and researchers. HRSA partners may also include individuals served by HRSA programs and/or funding recipients. Participation in any collections under this clearance will be entirely voluntary, and the privacy of respondents will be preserved to the extent requested by participants and as permitted by law.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Instrument | Number of respondents | Number of responses per respondent | Total responses | Average burden per response (in hours) | Total burden hours
Evaluation forms | 41,000 | 1 | 41,000 | 0.05 | 84,050,000
Surveys (telephone, online) | 55,000 | 1 | 55,000 | 0.10 | 5,500
Focus groups | 2,000 | 1 | 2,000 | 1.50 | 3,000
Total | 98,000 |  | 98,000 |  | 84,058,500

Maria G. Button,
Director, Executive Secretariat.

[FR Doc. 2024-00003 Filed 1-4-24; 8:45 am]

BILLING CODE 4165-15-P